DEPARTMENT OF EDUCATION

National Assessment Governing Board; Meeting

AGENCY: Department of Education, National Assessment Governing Board.

ACTION: Notice; correction.

SUMMARY: The National Assessment Governing Board published a document in the Federal Register of May 2, 2007, announcing the schedule and proposed agenda of a forthcoming meeting of the National Assessment Governing Board. The meeting agenda has been revised.

FOR FURTHER INFORMATION CONTACT: Munira Mwalimu at (202) 357-6906.

Correction

In the Federal Register of May 2, 2007, in FR DOCID: fr02my07-43, Volume 72, Number 84, page 24282, delete the sentence “Assessment Development Committee: Open Session12 p.m. to 3 p.m.” and delete the sentence on page 24282 that reads “On May 17, the Assessment Development Committee will meet in open session from 12 p.m. to 3 p.m.” This meeting of the Assessment Development Committee is cancelled.

On page 24282, delete the paragraph that reads “On May 18, the full Board will meet in closed session from 12:15 p.m. to 1:45 p.m. The Board will receive a briefing provided by the National Center for Education Statistics on the NAEP 2006 U.S. History and Civics Report Cards. The Governing Board will be provided with embargoed data that cannot be discussed in an open meeting prior to their official release. The meeting must therefore be conducted in closed session as disclosure of data would significantly impede implementation of The Nation's Report Card initial release activities, as protected by exemption 9(B) of section 552b(c) of Title 5 U.S.C.” Replace this paragraph with the following sentence, “On May 18, the full Board will meet in open session from 12:15 p.m. to 1:45 p.m. to receive a briefing provided by the National Center for Education Statistics on the NAEP 2006 U.S. History and Civics Report Cards.” This session of the Board meeting is now open to the public.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 3, 2007.
Charles E. Smith,
Executive Director, U.S. Department of Education, National Assessment Governing Board.

[FR Doc. E7-8800 Filed 5-7-07; 8:45 am]

BILLING CODE 4000-01-P